DEPARTMENT OF COMMERCE

International Trade Administration

International Framework for Nuclear Energy Cooperation (IFNEC) Industry Workshop on Developing Options and Pathways for Disposal of Spent Nuclear Fuel and High-Level Waste

AGENCY: ITA, DOC.

ACTION: Notice.

Event Description

The U.S. Department of Commerce's International Trade Administration (ITA) is coordinating with the U.S. Department of Energy to organize participation by U.S. companies in the International Framework for Nuclear Energy Cooperation (IFNEC) Industry Workshop on Developing Options and Pathways for Disposal of Spent Nuclear Fuel and High-Level Waste, to be held May 5-6, 2014 in Bucharest, Romania. IFNEC is an international forum consisting of 63 countries and three international organizations, and is sponsoring this workshop to facilitate a more focused dialogue directed at understanding the challenges of spent fuel management facing countries that are beginning to develop nuclear power. ITA is seeking the participation of up to 10 U.S. companies or trade associations in the civil nuclear sector in the IFNEC Workshop. U.S. companies will have the opportunity to participate in interactive panel discussions and meet with senior foreign government and industry officials to discuss commercial options for the long-term management and disposal of spent fuel.

Event Setting

The IFNEC Workshop will bring together IFNEC policy makers, nuclear industry representatives, energy planning agencies and international organizations to consider current options for countries' management of the back end of the nuclear fuel cycle and potential options for commercially-based regional or multinational spent fuel disposal services.

IFNEC Background

IFNEC is led by an Executive Committee, which is made up of ministerial-level officials or their designees from Participant Countries that meet annually to set the IFNEC agenda for the coming year. Observer Countries and International Organizations are welcome and encouraged to attend the ministerial. IFNEC has two working groups, the Reliable Nuclear Fuels Working Group (RNFWG) and the Infrastructure Development Working Group (IDWG), that focus on modes for reliable fuel supply and infrastructure development respectively. In 2012, the RNFWG was directed by the Executive Committee to hold a workshop on commercially-based approaches to used fuel management.

Event Scenario

Workshop format

The IFNEC Workshop will provide a setting in which representatives of governments and the global nuclear industry will address issues involving potential commercial options for the long-term management and disposal of spent fuel through presentations and interactive panel discussions.

The Workshop goals are to:

• Clarify industry interest in the development of final waste options and discuss what is needed to incentivize industry involvement;

• Discuss the need for final waste management capabilities and the role of social contract issues in the development of disposal options;

• Explore what factors are needed to develop disposal options;

Event Dates and Draft Agenda*

Monday, May 5

9:00-9:15 a.m. Opening Remarks

9:15-12:00 p.m. Session 1: Waste Management Capabilities and the Role of Social Contract Issues. This session will provide newcomer countries' perspectives on key disposal issues, disposal options, waste management capabilities for disposal, and lessons learned regarding public interactions, siting facilities, and political and social issues associated with interim and final disposal.

12:00-1:30 p.m. Lunch

1:30-3:00 p.m. Moderated and interactive Panel Discussion on Session 1

3:00-3:30 p.m. Break

3:30-5:00 p.m. Session 2: Prerequisites for the Development of a Commercial Disposal Services Market. This session will seek to define the necessary frameworks required for a commercial disposal service market in the following areas: waste management, waste inventory, interim storage, public acceptance, laws and standards, stabilities and reversibility, respective responsibilities, multi-generation stakes, and unlimited liability.

Tuesday, May 6

9:00-9:30 a.m. Session 3: RNFSWG Activities Addressing Disposal Options. The RNFSWG will provide an update on what has been done to date to address the need for disposal options and identify the issues associated with their potential development. Items to be discussed include: CFS Discussion Paper, Current Practices Paper, work on examples of international agreements needed, identification of issues that will need to be addressed, alternative approaches to disposal options.

9:30-12:00 p.m. Session 4: Industry Interest in the Development of Final Waste Options. This session will give industry the opportunity to provide their feedback and reactions to the RNFSWG's concept of a Commercial Disposal Services Market. U.S. industry participants will have the means to actively participate and influence the direction in which the RNFSWG proceeds.

12:00-1:30 p.m. Lunch

1:30-3:00 p.m. Wrap-up Discussion. This discussion is designed for additional reactions to the previous sessions and the identification of possible future activities for the RNFSWG to consider in supporting the development of final waste management capabilities and options .

* Following the Conclusion of the Workshop the RNFSWG Meeting will convene.

3:30-5:00 p.m. RNFSWG Meeting of Members—Separate Agenda

Event Goals

U.S. civil nuclear industry representatives have in the past found IFNEC meetings and workshops to be ideal opportunities to network with senior U.S. and foreign government representatives interested in the potential of nuclear power. Workshop participants will benefit from the expertise that the U.S. civil nuclear industry has amassed in this sector and may potentially learn how to better partner with U.S. industry on future nuclear power projects, thus facilitating increased U.S. exports.

Organizers and participants will engage in a dialogue on ways to develop national capabilities for long-term waste management and the benefits of potentially developing viable regional or international disposal options, particularly for countries with small reactor fleets. This workshop will also enable participants to share experiences regarding existing national disposal programs and to discuss specific aspects related to international waste disposal cooperation. In addition, the workshop will seek to identify the role of industry and government in developing such options and prerequisites for the development of a market for such services.

Participation Requirements

Organizations interested in participating in the Workshop must complete and submit an application package for consideration by the ITA. Applicants will be evaluated based on their ability to meet the selection criteria outlined below. Up to 10 organizations will be selected to participate in the IFNEC Workshop from the applicant pool of U.S. companies and trade associations. Only companies or trade associations representing companies that are already doing business internationally may apply. Applications will be reviewed on a rolling basis in the order that they are received.

Fees and Expenses

After an organization has been selected to participate, the IFNEC Steering Group Chair will send out a formal invitation. There is NO participation fee associated with participating in the IFNEC Workshop; however, participants will be responsible for personal expenses associated with lodging, most meals, incidentals, local ground transportation, air transportation from the United States to the event location, and return to the United States.

Conditions for Participation

Applicants must submit to ITA's staff (see Contact) a completed mission application signed by a company official, together with supplemental application materials addressing how their organization satisfies the selection criteria listed below by March 28, 2014. If the ITA receives an incomplete application, it may be rejected or ITA may request additional information.

In question 11 of the trade event application, each applicant is asked to certify that the products and services it intends to export through the event are either manufactured or produced in the United States, or, if not, are marketed under the name of a U.S. firm and have U.S. content representing at least 51 percent of the value of the finished good or service. For purposes of this event, meeting the 51 percent content requirement is not a prerequisite for mission participation and applicant responses to question 11 will serve as supplemental information the ITA is reviewing applications.

In the case of a trade association, the applicant must certify that as part of its event participation, it will represent the interests of its members.

Selection Criteria for Participation

Selection will be based on the following criteria:

• The applicant's experience producing technology or providing services to civil nuclear energy projects or, in the case of a trade association, the experience of its members;

• The global breadth of the applicant's experience with civil nuclear energy projects;

• The extent and depth of the applicant's activities in the global civil nuclear energy industry;

• The applicant's company or, in the case of a trade association, the association's members' potential for, or interest in, doing business with IFNEC member countries;

• The applicant's ability to identify and discuss policy issues relevant to U.S. competitiveness in the nuclear energy sector, with special emphasis on financing; and

• Consistency of the applicant's company or trade association's goals and objectives with the stated scope of the IFNEC Workshop.

Referrals from political organizations and any documents containing references to partisan political activities (including political contributions) will be removed from an applicant's submission and not considered during the selection process.

Selected applicants will be asked to sign a Participation Agreement with the Department of Commerce which includes the following mandatory certifications (applicants that cannot attest to these certifications cannot participate):

• Certify that the products and services that it intends to highlight as examples at the workshop would be in compliance with U.S. export controls and regulations;

• Certify that it has identified to the Department of Commerce for its evaluation any business pending before the Department that may present the appearance of a conflict of interest;

• Certify that it has identified any pending litigation (including any administrative proceedings) to which it is a party that involves the Department of Commerce; and

• Certify that it and its affiliates (1) have not and will not engage in the bribery of foreign officials in connection with a company's/participant's involvement in this mission, and (2) maintain and enforce a policy that prohibits the bribery of foreign officials.

Timeframe for Recruitment and Participation

Recruitment for participating in the IFNEC Industry Workshop on Developing Options and Pathways for Disposal of Spent Nuclear Fuel and High-Level Waste as a representative of the U.S. nuclear industry will be conducted in an open and public manner, including publication in the Federal Register, posting on the Commerce Department trade mission calendar, notices to industry trade associations and other multiplier groups. Recruitment will begin immediately and conclude no later than March 28, 2014. The ITA will review applications and make selection decisions on a rolling basis beginning March 28, 2014. Applications received after March 28, 2014 will be considered only if space and scheduling permit.

Contact

Jonathan Chesebro, Senior Nuclear Trade Specialist, Industry & Analysis—Office of Energy and Environmental Industries, U.S. Department of Commerce, International Trade Administration, Phone: (202) 482-1297, Email: jonathan.chesebro@trade.gov.

Dated: March 18, 2014.
Edward A. O'Malley,
Director, Office of Energy and Environmental Industries.

[FR Doc. 2014-06509 Filed 3-24-14; 8:45 am]

BILLING CODE 3510-DR-P